DEPARTMENT OF THE TREASURY

Internal Revenue Service

Proposed Collection; Comment Request for Regulation 209619-93; Correction

AGENCY: Internal Revenue Service (IRS), Treasury.

ACTION: Correction to a notice and request for comments.

SUMMARY: This document contains corrections to a notice and request for comments on an existing proposed rulemaking, REG-209619-03, that was published in the Federal Register on Thursday, July 22, 2010 (75 FR 42827).

FOR FURTHER INFORMATION CONTACT: Elaine Christophe, or 202-622-3179 (not a toll free number).

SUPPLEMENTARY INFORMATION:

Background

The notice and request for comments that is the subject of this correction is required by the Paperwork Reduction Act of 1995, Public Law 104-13 (44 U.S.C. 3506(c)(2)(A)).

Need for Correction

As published, the notice and request for comments on regulation 209619-93 contains an error that may prove to be misleading and is in need of clarification.

Correction of Publication

Accordingly, the notice and request for comments on regulation 209619-93, that was the subject of FR Doc. 2010-17870, is corrected as follows:

On Page 42827, column 1, under the caption DATES, lines 2 and 3, the language “received on or before November 16, 2007 to be assured for consideration.” is corrected to read “received on or before September 20, 2010 to be assured for consideration.”

LaNita VanDyke,
Chief, Publications and Regulations Branch, Legal Processing Division, Associate Chief Counsel (Procedure and Administration).

[FR Doc. 2010-19171 Filed 8-4-10; 8:45 am]

BILLING CODE 4830-01-P